DEPARTMENT OF THE TREASURY

Office of Foreign Assets Control

Notice of OFAC Sanctions Action[s]

AGENCY: Office of Foreign Assets Control, Treasury.

ACTION: Notice.

SUMMARY: The Department of the Treasury's Office of Foreign Assets Control (OFAC) is providing additional notice of the following actions, which were taken on March 24, 2016 and July 20, 2016. It is publishing the names of five persons and four entities that were placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION Section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel. 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Action(s)

On March 24, 2016, OFAC determined that the property and interests in property subject to U.S. jurisdiction of the following two individuals and four entities are blocked under the relevant sanctions authority listed below.

Individuals

1. ASHFIELD, Jeffrey John James, Hayselden Manor, Sissinghurst, Cranbrook, Kent TN172A, United Kingdom; DOB 11 Feb 1950; Additional Sanctions Information—Subject to Secondary Sanctions; Passport 307893124 (United Kingdom) (individual) [SDGT] [IFSR] (Linked To: MAHAN AIR).

Designated pursuant to section 1(d)(i) of Executive Order 13224 of September 23, 2001, “Blocking Property and Prohibiting Transactions With Persons Who Commit, Threaten to Commit, or Support Terrorism” (E.O. 13224) for providing financial, material, or technological support for, or financial or other services to or in support of, Mahan Air, an entity whose property and interests in property are blocked pursuant to E.O. 13224.

2. MEADOWS, John Edward (a.k.a. MEADOWS, John), The Retreat, St. Mary's Lane, Bexhill on Sea, United Kingdom; DOB 17 Dec 1958; Additional Sanctions Information—Subject to Secondary Sanctions; Passport 099270130 (United Kingdom); alt. Passport 093032285 (United Kingdom) (individual) [SDGT] [IFSR] (Linked To: AIRCRAFT, AVIONICS, PARTS & SUPPORT LTD.).

Designated pursuant to section 1(c) of Executive Order 13224 of September 23, 2001, “Blocking Property and Prohibiting Transactions With Persons Who Commit, Threaten to Commit, or Support Terrorism” (E.O. 13224) for acting for or on behalf of AIRCRAFT, AVIONICS, PARTS & SUPPORT LTD, an entity whose property and interests in property are blocked pursuant to E.O. 13224.

Entities

1. AVIATION CAPITAL SOLUTIONS LTD., 50 St. Leonards Road, Bexhill on Sea, East Sussex, United Kingdom; Additional Sanctions Information—Subject to Secondary Sanctions [SDGT] [IFSR] (Linked To: MAHAN AIR).

Designated pursuant to section 1(d)(i) of Executive Order 13224 of September 23, 2001, “Blocking Property and Prohibiting Transactions With Persons Who Commit, Threaten to Commit, or Support Terrorism” (E.O. 13224) for providing financial, material, or technological support for, or financial or other services to or in support of, Mahan Air, an entity whose property and interests in property are blocked pursuant to E.O. 13224.

2. AIRCRAFT, AVIONICS, PARTS & SUPPORT LTD. (a.k.a. AIRCRAFT AVIONICS PARTS AND SUPPORT LTD.), 50 St. Leonards Road, Bexhill on Sea, East Sussex, United Kingdom; 74 High Street, Battle, East Sussex, United Kingdom; Additional Sanctions Information—Subject to Secondary Sanctions; UK Company Number 03632365 [SDGT] [IFSR] (Linked To: MAHAN AIR).

Designated pursuant to section 1(d)(i) of Executive Order 13224 of September 23, 2001, “Blocking Property and Prohibiting Transactions With Persons Who Commit, Threaten to Commit, or Support Terrorism” (E.O. 13224) for providing financial, material, or technological support for, or financial or other services to or in support of, Mahan Air, an entity whose property and interests in property are blocked pursuant to E.O. 13224.

3. GRANDEUR GENERAL TRADING FZE, P.O. Box 5480, Fujairah, United Arab Emirates; Additional Sanctions Information—Subject to Secondary Sanctions [SDGT] [IFSR] (Linked To: MAHAN AIR).

Designated pursuant to section 1(d)(i) of Executive Order 13224 of September 23, 2001, “Blocking Property and Prohibiting Transactions With Persons Who Commit, Threaten to Commit, or Support Terrorism” (E.O. 13224) for providing financial, material, or technological support for, or financial or other services to or in support of, Mahan Air, an entity whose property and interests in property are blocked pursuant to E.O. 13224.

4. HSI TRADING FZE, Office CI-l3l7Q, Ajman Free Zone, Ajman, United Arab Emirates; Additional Sanctions Information—Subject to Secondary Sanctions [SDGT] [IFSR] (Linked To: MAHAN AIR).

Designated pursuant to section 1(d)(i) of Executive Order 13224 of September 23, 2001, “Blocking Property and Prohibiting Transactions With Persons Who Commit, Threaten to Commit, or Support Terrorism” (E.O. 13224) for providing financial, material, or technological support for, or financial or other services to or in support of, Mahan Air, an entity whose property and interests in property are blocked pursuant to E.O. 13224.

On July 20, 2016, OFAC determined that the property and interests in property subject to U.S. jurisdiction of the following three persons are blocked under the relevant sanctions authority listed below.

Individuals

1. GHUMAYN, Abu Bakr Muhammad Muhammad (a.k.a. AL-JAZA'IRI, Abu Ubaida; a.k.a. AL-JAZAIRI, Abu Ubaydah; a.k.a. GEUMMANE, Abu Bakr; a.k.a. GUEMMANE, Aboubakir; a.k.a. GUEMMANE, Aboubakr; a.k.a. GUEMMANE, Aboubekr; a.k.a. GUEMMANE, Abu Bakr Muhammad Muhammad; a.k.a. JAMIN, Abu Bakr Muhammad Muhammad; a.k.a. MAZOUZ, Kheireddine; a.k.a. MAZOUZI, Khayr al-Din; a.k.a. “LESAGE, Carol Jacques Ghislain”; a.k.a. “LESAGE, Jacques Ghislain”), Iran; DOB 31 Mar 1981; POB Algeria; nationality Algeria; Passport 98LH90556 (France) (individual) [SDGT] (Linked To: AL QA'IDA).

Designated pursuant to section 1(c) of Executive Order 13224 of September 23, 2001, “Blocking Property and Prohibiting Transactions With Persons Who Commit, Threaten to Commit, or Support Terrorism” (E.O. 13224) for acting for or on behalf of AL-QA'IDA, an entity determined to be subject to E.O. 13224.

2. AL-KHALIDI, Faisal Jassim Mohammed al-Amri (a.k.a. AL-KHALIDI, Faisal Jassim Mohammed al-Oamri; a.k.a. AL-KHALIDI, Faysal Jasim Muhammad al-'Amiri; a.k.a. AL-KHALIDI, Faysal Jasim Muhammad al-Umari; a.k.a. AL-KHALIDI, Hamzah), Iran; DOB 22 Jul 1984; POB Kuwait; nationality Saudi Arabia; Passport B542902 issued 23 Jul 1998; National ID No. 1074811678 (Saudi Arabia) (individual) [SDGT] (Linked To: AL QA'IDA).

Designated pursuant to section 1(c) of Executive Order 13224 of September 23, 2001, “Blocking Property and Prohibiting Transactions With Persons Who Commit, Threaten to Commit, or Support Terrorism” (E.O. 13224) for acting for or on behalf of AL-QA'IDA, an entity determined to be subject to E.O. 13224.

3. BAYUMI, Yisra Muhammad Ibrahim (a.k.a. AL-MASRI, Hamam; a.k.a. AL-SA'IDI, Abu Hammam; a.k.a. AL-SA'IDI, Abu Humam; a.k.a. AL-SA'IDI, Hamam; a.k.a. BAYUMI, Yasri Muhammad Ibrahim), Iran; DOB 20 May 1968; POB Aswan Governorate, Egypt; nationality Egypt; Shaykh (individual) [SDGT] (Linked To: AL QA'IDA).

Designated pursuant to section 1(c) of Executive Order 13224 of September 23, 2001, “Blocking Property and Prohibiting Transactions With Persons Who Commit, Threaten to Commit, or Support Terrorism” (E.O. 13224) for acting for or on behalf of AL-QA'IDA, an entity determined to be subject to E.O. 13224.

Dated: May 16, 2018.
Andrea Gacki
Acting Director, Office of Foreign Assets Control.

[FR Doc. 2018-10842 Filed 5-21-18; 8:45 am]

BILLING CODE 4810-AL-P